DEPARTMENT OF TRANSPORTATION

Federal Aviation Administration

14 CFR Part 39

[Docket No. 2000-CE-05-AD; Amendment 39-13037; AD 2003-03-13]

RIN 2120-AA64

Airworthiness Directives; MORAVAN a.s. Model Z-242L Airplanes

AGENCY: Federal Aviation Administration, DOT.

ACTION: Final rule.

SUMMARY: This amendment adopts a new airworthiness directive (AD) that applies to all MORAVAN a.s. (Moravan) Model Z-242L airplanes. This AD establishes a technical service life for these airplanes by restricting Acrobatic and Utility category operations and requiring replacement of the wings after a certain operational time period. This AD is the result of mandatory continuing airworthiness information (MCAI) issued by the airworthiness authority for the Czech Republic. The actions specified by this AD are intended to prevent structural failure of the wing due to fatigue cracking. Such failure could result in a wing separating from the airplane with consequent loss of airplane control.

DATES: This AD becomes effective on March 21, 2003.

The Director of the Federal Register approved the incorporation by reference of certain publications listed in the regulations as of March 21, 2003.

ADDRESSES: You may get the service information referenced in this AD from Moravan, Inc., 765 81 Otrokovice, Czech Republic; telephone: +420 67 767 3940; facsimile: +420 67 792 2103. You may view this information at the Federal Aviation Administration (FAA), Central Region, Office of the Regional Counsel, Attention: Rules Docket No. 2000-CE-05-AD, 901 Locust, Room 506, Kansas City, Missouri 64106; or at the Office of the Federal Register, 800 North Capitol Street, NW, suite 700, Washington, DC.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What Events Have Caused This AD?

The Civil Aviation Authority Czech Republic (CAA CZ), which is the airworthiness authority for the Czech Republic, notified FAA that an unsafe condition may exist on all Moravan Model Z-242L airplanes. The CAA CZ reports that these airplanes are operated over the load spectrum that was used at certification. The CAA CZ further reports that a technical service life for these airplanes is needed. The affected airplanes fall into two different groups:

—Group 1: those airplanes with a serial number in the range of 0001 through 0656 with the original wings installed; and

—Group 2: those airplanes with stronger wings installed either through modification (serial numbers 0001 through 0656) or at manufacture (all serial numbers beginning with 0657).

Based on analysis, the CAA CZ reports that the technical service life should be:

| Acrobatic and utility category operations | All operations
Group 1 | 190 hours time-in-service (TIS) only in these categories. Operation only in the Normal category thereafter | 3,500 hours TIS. New wings must be installed prior to further operation.
Group 2 | 450 hours TIS only in these categories. Operation only in the Normal category thereafter | 5,500 hours TIS. New wings must be installed prior to further operation.

What Is the Potential Impact if FAA Took No Action?

Fatigue cracks in the wing, if not detected and corrected or prevented, could result in structural failure of the wing. Such failure could result in a wing separating from the airplane with consequent loss of airplane control.

Has FAA Taken Any Action to This Point?

We issued a proposal to amend part 39 of the Federal Aviation Regulations (14 CFR part 39) to include an AD that would apply to all Moravan Model Z-242L airplanes. This proposal was published in the Federal Register as a notice of proposed rulemaking (NPRM) on October 4, 2002 (67 FR 62214). The NPRM proposed to establish a technical service life for these airplanes by restricting Acrobatic and Utility category operations and requiring replacement of the wings after a certain operational time period.

Was the Public Invited to Comment?

The FAA encouraged interested persons to participate in the making of this amendment. The following presents the comments received on the proposal and FAA's response to each comment:

Comment Issue No. 1: Delay the AD Until Moravan America Completes an Analysis of the Problem and Presents an Alternative

What Is the Commenters' Concern?

Several commenters request that FAA delay issuing the final rule AD until after Moravan America has a chance to present an alternative to the actions specified in the NPRM. Specific comments in this area are as follows:

—One of the alternatives that Moravan America is working on allows an extension of the 450-hour time-in-service (TIS) Acrobatic and Utility operations life limit to 700 hours TIS. This would only apply to airplanes with strengthened wings;

—Moravan America will produce a service bulletin tailored to the operational characteristics of the U.S. safety assurance system and will provide operational guidelines and a measurement system for exceeding load limits. Included in this service bulletin would be guidelines for continued airworthiness and operational constraints;

—The FAA should delay issuing this AD until Moravan America has a chance to evaluate all the facts leading to the issuance of the Czech Republic AD. The Moravan America proposed solution will be a better option; and

—Moravan America can have a proposed alternative to this AD within 90 days.

What Is FAA's Response to the Concern?

The FAA is continuing with this AD action. However, we will add a grace period of “90 days after the effective date of this AD” to the compliance time of the life limits in the Utility and Acrobatic categories. This would make the compliance time “upon accumulating either 190 hours TIS or 450 hours TIS in the Utility or Acrobatic category or on or before June 10, 2003 (90 days after the effective date of this AD), whichever occurs later.” This compliance time change will give Moravan America the time it needs to develop an alternative method of compliance and service bulletin for FAA approval.

Based on data submitted, we may approve an alternative method of compliance and amend the AD, as appropriate.

Comment Issue No. 2: The Life Limit for Airplanes With Strengthened Wings Should Be 5,500 Hours Time-in-Service (TIS)

What Is the Commenter's Concern?

One commenter states that the life limit for airplanes with the strengthened wings should be 5,500 hours TIS. We infer that the commenter wants the NPRM changed to reflect this.

What Is FAA's Response to the Concern?

We partially concur. The life limit for the affected airplanes with strengthened wings is 5,500 hours TIS while operated in the Normal category. The life limit for these airplanes in the Utility and Acrobatic categories is 450 hours TIS. After the sum of time in the Utility and Acrobatic categories equals 450 hours TIS or within 90 days after the effective date of the AD (whichever occurs later), you may only operate the airplane in the Normal category until the accumulation of 5,500 hours TIS. Utility and Acrobatic category operation would be prohibited until the installation of new wings.

The life limits for Utility and Acrobatic category operation and Normal category operation would start over again after replacement of the wings.

We are not changing the final rule AD action as a result of this comment.

Comment Issue No. 3: Allow a Life Limit Extension Through Installation of the AMU1 Monitoring Unit

What Is the Commenters' Concern?

Several commenters request that FAA change the NPRM to allow those airplanes that incorporate the strengthened wings to operate past 450 hours TIS in the Utility and Acrobatic categories if an AMU1 (acceleration monitoring unit) is installed. The commenters state that this unit regularly monitors the load factors on the primary structure and evaluates the measured load spectrum and collates it with the CAA-FAA and ZLIN-A spectrums. The commenters feel that this AMU1 unit has had an indisputable and substantial impact on increasing the safe fatigue life on the Model Z-242L airplanes.

What Is FAA's Response to the Concern?

We do not concur that the AMU1 unit should be part of the proposed AD. The CAA CZ examined all the available data and decided that these airplanes should be life limited to the levels described in the NPRM.

We have determined that these life limit values are valid and that allowing all airplanes to exceed these values through the use of an acceleration monitoring unit does not address the unsafe condition. The FAA will evaluate requests for this option on an individual basis and may issue alternative methods of compliance provided the request is made in accordance with the procedures in paragraph (e) of the AD and provides a level of safety acceptable to FAA.

We are not changing the final rule AD action as a result of this comment.

Comment Issue No. 4: Allow Moravan to Extend the Life Limits on a Case-by-Case Basis

What Is the Commenters' Concern?

Several commenters state that Moravan has the capability of approving the data from the acceleration monitoring unit and allowing continued operation past the specified life limits. The commenters further state that Moravan recognizes the information from both the AMU1 unit and the Corsa Data Acquisition System (CDAS) in allowing the affected airplanes to operate past the 450-hour TIS life limit in the Utility and Acrobatic categories and operate to the 5,500-hour TIS Normal category life limit.

The commenters suggest that FAA give Moravan the authority to allow the affected airplane operators to operate past the Utility and Acrobatic life limit categories.

What Is FAA's Response to the Concern?

We do not concur. As earlier stated, the CAA CZ examined all the available data and decided that these airplanes should be life limited to the levels described in the NPRM. We have determined that these life limits are valid.

The FAA is not allowed to delegate its rulemaking authority to an aircraft manufacturer. Allowing Moravan to determine whether an airplane can exceed these values through the use of an AMU1 or CDAS would be the same as delegating our rulemaking authority.

We will evaluate requests for this option on an individual basis and may issue alternative methods of compliance provided the request is found to be at a level of safety acceptable to FAA and is made in accordance with the procedures in paragraph (e) of the AD.

We are not changing the final rule AD action as a result of this comment.

Comment Issue No. 5: Allow a Root Wing Modification

What Is the Commenter's Concern?

One commenter recommends that FAA add the option of incorporating a wing root modification to allow operation in the Utility and Acrobatic categories to 3,500 hours TIS. This is for airplanes with unstrengthened wings that are not eligible for the AMU1 method to increase operation to the 5,500 hours TIS.

What Is FAA's Response to the Concern?

We do not concur. As earlier stated, the CAA CZ examined all the available data and decided that these airplanes should be life limited to the levels described in the NPRM. We have determined that these life limits are valid.

Moravan has superseded the service bulletin that incorporated the referenced root wing modification, and the CAA CZ does not have current AD action that references this root wing modification. The FAA has examined all of the information available from CAA CZ and has determined that the root wing modification is not a valid option for this AD action.

We are not changing the final rule AD action as a result of this comment.

Comment Issue No. 6: The Model Z-242L Airplanes Should Either Be Eliminated From the AD or Not Have Utility and Acrobatic Category Life Limit Restrictions

What Is the Commenters' Concern?

Several comments state that both the CAA CZ and FAA have approved fatigue testing done on 3 Model Z242L airplanes that shows that the airplanes can be operated to 5,500 hours TIS without any life limits on Utility or Acrobatic category operations. These commenters recommend that we remove the Utility and Acrobatic category life limit requirement from the AD for the Model Z-242L airplanes.

Another commenter states that the service history on this subject matter is only for the earlier manufactured airplane models and no data exists for the Model Z-242L airplanes. The airplane models that the commenter refers to are not certificated for operation in the United States. This commenter recommends that FAA withdraw the NPRM.

One commenter states that the proposed AD action is based on an accident of a Model Z-142 airplane (not certificated in the United States) in Australia. The commenter points out that the wing on the Model Z-242L has a totally different design and should not be affected by the subject matter in this AD. The commenter proposes that FAA withdraw the NPRM.

What Is FAA's Response to the Concern?

The FAA does not concur that the Model Z-242L airplanes should be excluded from the AD or exempt from the Utility and Acrobatic category life limit requirements. We concur that there may be differences in the design of the aircraft, but we do not concur that the Model Z-242L is not affected by this subject matter. The CAA CZ has approved the life limits that are included in this AD for the Model Z-242L airplanes, and FAA has determined that they are valid for these airplanes that are registered in the United States. The FAA has to issue an AD to mandate the reduction in a life limit or a change or addition of an airworthiness limitation, even if the reduction, change, or addition is FAA-approved. Therefore, the AD is necessary in order to ensure the life limits are required.

We are not changing the final rule AD action as a result of this comment.

Comment Issue No. 7: Why Issue an AD When the Life Limits Are Already Published in the Maintenance Manual

What Is the Commenter's Concern?

One commenter states that the current life limits are already in force because the manufacturer included them in a revision to the maintenance manual. Because of this, the commenter believes the AD is unnecessary and requests that FAA withdraw the NPRM.

What Is FAA's Response to the Concern?

We do not concur that the AD is unnecessary and the NPRM should be withdrawn. There are distinct differences between the CAA CZ and FAA's rulemaking processes. If the CAA CZ determines an airworthiness limitation should be added or a life limit should be reduced, it only has to stamp CAA CZ approved on the document (service bulletin or maintenance manual revision) to enforce the change. The FAA has to issue an AD to mandate the reduction in a life limit or a change or addition of an airworthiness limitation, even if the reduction, change, or addition is FAA-approved. Therefore, the AD is necessary in order to ensure the life limits are required.

We are not changing the final rule AD action as a result of this comment.

Comment Issue No. 8: Allow the Option of Repetitive Inspections Instead of Wing Replacement

What Is the Commenter's Concern?

One commenter requests that FAA allow repetitive inspection of the wings once one of the affected airplanes reaches the life limit in Utility and Acrobatic operations. The commenter believes that the aircraft could then continue to fly until it reached the total hours TIS life limit provided no cracks are found during the inspections. The commenter states that this would provide the same level of safety because cracks would be detected before failure, and then FAA could mandate replacement of the wings when the cracks were found.

What Is FAA's Response to the Concern?

There currently are no procedures available for detecting cracks in the wings of the affected airplanes. The CAA CZ has not approved inspections in this area and has approved the life limits. Therefore, we are mandating the life limits through this AD action.

We would consider repetitive inspections as an alternative method of compliance provided the method:

—included procedures that provided details on how the onset of the fatigue damage was going to be detected;

—was submitted in accordance with the procedures specified in this AD; and

—provided a level of safety that was acceptable to FAA.

We are not changing the final rule AD action as a result of this comment.

Comment Issue No. 9: The Cost of This AD Is Too High

What Is the Commenters' Concern?

Several commenters request that FAA not issue the AD because of the high cost.

What Is FAA's Response to the Concern?

The FAA does not concur. While we do take the cost impact into consideration on AD actions, the most important aspect is the safety issue. The passenger injuries that might be prevented through compliance with this AD outweigh the cost of compliance with this AD. We have determined that the CAA CZ life limits are valid and should be mandated for airplanes certificated for operation in the United States. We will approve any alternative method of compliance from the commenters provided it is submitted in accordance with the procedures in the AD and we determine that it provides an acceptable level of safety.

We are not changing the final rule AD action as a result of this comment.

Comment Issue No. 10: How Do You Track Utility and Acrobatic Time?

What Is the Commenter's Concern?

One commenter wants clarification on how time in the Utility and Acrobatic categories is calculated. This commenter states that no U.S. operator has an accurate account of acrobatic time at this point so all wings would have to be replaced or no one is going to claim the right number of hours in these categories.

What Is FAA's Response to the Concern?

We concur that it could be difficult to account for the number of hours TIS previously accumulated in the Utility and Acrobatic categories. However, the CAA CZ established the limits in the Utility and Acrobatic categories at 190 or 450 hours TIS and we have determined that they are valid and should be mandated for airplanes certificated for operation in the United States. As previously discussed, we are adding a grace period of “90 days after the effective date of this AD” to the compliance time of the life limits in the Utility and Acrobatic categories. This would make the compliance time “upon accumulating either 190 hours TIS or 450 hours TIS in the Utility or Acrobatic category or on or before June 10, 2003 (90 days after the effective date of this AD), whichever occurs later.”

All operators will have at least 90 days before they are restricted from operations in the Utility and Acrobatic categories.

We have added procedures to the AD on how to track time in the Acrobatic and Utility categories. These procedures are also specified in Moravan Mandatory Service Bulletin Z 242L/37a (Z 142C/17a), Rev. 1, dated October 31, 2000; and Moravan Mandatory Service Bulletin Z 242L/38a (Z 142C/18a), dated October 31, 2000.

Comment Issue No. 11: Aircraft Equipped With Nitrogen Spars Should Be Exempt From the AD

What Is the Commenter's Concern?

One commenter states that the life limits are not valid because the affected airplanes are equipped with nitrogen spars. With these spars, you can detect cracks through pressure leakage. The commenter believes that because of these early signs of failure, it is inconceivable that the wings will fall off due to stress. The commenter requests that FAA withdraw the NPRM.

What Is FAA's Response to the Concern?

We do not concur that the AD action is not valid because the affected airplanes are equipped with nitrogen spars. The CAA CZ was aware of this when it performed the analysis to determine the life limits. We have determined that the CAA CZ life limits are valid and should be mandated for airplanes certificated for operation in the United States.

We are not changing the final rule AD action as a result of this comment.

FAA's Determination

What Is FAA's Final Determination on This Issue?

After careful review of all available information related to the subject presented above, we have determined that air safety and the public interest require the adoption of the rule as proposed except for the compliance time change, the addition of procedures on how to track time in the Acrobatic and Utility categories, and minor editorial corrections. We have determined that the change, the addition, and the minor editorial corrections:

—provide the intent that was proposed in the NPRM for correcting the unsafe condition; and

—do not add any additional burden upon the public than was already proposed in the NPRM.

Cost Impact

How Many Airplanes Does This AD Impact?

We estimate that this AD affects 39 airplanes in the U.S. registry.

What Is the Cost Impact of This AD on Owners/Operators of the Affected Airplanes?

We estimate the following costs to replace the wings after the technical service life is reached:

Labor cost | Parts cost | Total cost per airplane | Total cost on U.S. operators
60 work hours × $60 per hour = $3,600 | $17,400 per set of wings | $21,000 | $819,000

We have no way of determining the monetary cost of the inconvenience of restricting flight to Normal category operations.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-03-13 MORAVAN A.S.: Amendment 39-13037; Docket No. 2000-CE-05-AD.

(a) What airplanes are affected by this AD? This AD affects Model Z-242L airplanes, all serial numbers, that are certificated in any category.

(b) Who must comply with this AD? Anyone who wishes to operate any of the airplanes identified in paragraph (a) of this AD must comply with this AD.

(c) What problem does this AD address? The actions specified by this AD are intended to prevent structural failure of the wing due to fatigue cracking. Such failure could result in a wing separating from the airplane with consequent loss of airplane control.

(d) What actions must I accomplish to address this problem? To address this problem, you must establish a technical service life and restrict Acrobatic and Utility category operations. This must be done by accomplishing the following, as applicable:

Actions | Compliance | Procedures
(1) You must annotate Acrobatic and Utility category operational time in the logbook. If the airplane is utilized in either of these categories at any time during a flight, you must annotate the total time for that flight in the Utility or Acrobatic category, as appropriate. The owner/operator holding at least a private pilot certificate as authorized by section 43.7 of the Federal Aviation Regulations (14 CFR 43.7) may annotate the logbook | As of the March 21, 2003 (the effective date of this AD) | This is specified in Moravan Mandatory Service Bulletin Z 242L/37a (Z 142C/17a), Rev. 1, dated October 31, 2000; and Moravan Mandatory Service Bulletin Z 242L/38a (Z 142C/18a), dated October 31, 2000.
(2) If you have an airplane with a serial number in the range of 0001 through 0656 that does not have strengthened wings installed (both left and right wings) in accordance with Moravan Mandatory Service Bulletin Z 242L/27a—Rev. 1, dated October 31, 2000, accomplish the following: (i) Insert the following information into the Limitations Section of the Airplane Flight Manual (AFM): “Do not operate in the Acrobatic or Utility category. Operate in the Normal category only.” (ii) Replace both wings with the following part numbers: (A) L 242.2100 left-hand wing; and (B) L 242.2200 right-hand wing | AFM incorporation: Upon the accumulation of 190 hours time-in-service (TIS) in the Acrobatic category and/or Utility category or on or before June 10, 2003 (90 days after the effective date of this AD), whichever occurs later; and Replacement: Upon the accumulation of 3,500 hours TIS in all operations or within the next 50 hours TIS in all operations after March 21, 2003 (the effective date of this AD), whichever occurs later | AFM incorporation: The owner/operator holding at least a private pilot certificate as authorized by section 43.7 of the Federal Aviation Regulations (14 CFR 43.7) may accomplish this AFM insertion of this AD. Make an entry into the aircraft records showing compliance with these portions of the AD in accordance with section 43.9 of the Federal Aviation Regulations (14 CFR 43.9). This operational restriction is referenced in Moravan Mandatory Service Bulletin Z 242L/37a (Z 142C/17a), Rev. 1, dated October 31, 2000. Replacement: In accordance with Moravan Mandatory Service Bulletin Z 242L/27a—Rev. 1, dated October 31, 2000.
(3) If you have an airplane with a serial number of 0657 or higher or one in the range of 0001 through 0656 that has strengthened wings (both left and right) installed in accordance with Moravan Mandatory Service Bulletin Z 242L/27a—Rev. 1, dated October 31, 2000, accomplish the following: (i) Insert the following information into the Limitations Section of the Airplane Flight Manual (AFM): “Do not operate in the Acrobatic or Utility category. Operate in the Normal category only.” (ii) Replace both wings with the following part numbers: (A) L 242.2100 left-hand wing; and (B) L 242.2200 right-hand wing | AFM incorporation: Upon the accumulation of 450 hours (TIS) in the Acrobatic category and/or Utility category or on or before June 10, 2003 (90 days after the effective date of this AD), whichever occurs later; and Replacement: Upon the accumulation of 5,500 hours TIS in all operations or within the next 50 hours TIS after March 21, 2003 (the effective date of this AD), whichever occurs later. You must maintain the AFM requirement until replacement of the wings | AFM incorporation: The owner/operator holding at least a private pilot certificate as authorized by section 43.7 of the Federal Aviation Regulations (14 CFR 43.7) may accomplish this AFM insertion of this AD. Make an entry into the aircraft records showing compliance with these portions of the AD in accordance with section 43.9 of the Federal Aviation Regulations (14 CFR 43.9). This operational restriction is referenced in Moravan Mandatory Service Bulletin Z 242L/38a (Z 142C/18a), dated October 31, 2000. Replacement: In accordance with Moravan Mandatory Service Bulletin Z 242L/27a—Rev. 1, dated October 31, 2000.
(4) Only install a wing with a part number of L 242.2100 left-hand wing or L 242.2200 right-hand wing | As of March 21, 2003 (the effective date of this AD) | Not applicable.
(5) When you install new wings (both left and right) on your airplane, the AFM and replacement requirements of paragraph (d)(2) of this AD apply | AFM incorporation: Upon the accumulation of 450 hours TIS in the Acrobatic category and/or Utility category; and Replacement: Upon the accumulation of 5,500 hours TIS in all operations | See paragraph (d)(3) of this AD.

(e) Can I comply with this AD in any other way? You may use an alternative method of compliance or adjust the compliance time if:

(1) Your alternative method of compliance provides an equivalent level of safety; and

(2) The Manager, Standards Office, Small Airplane Directorate, approves your alternative. Submit your request through an FAA Principal Maintenance Inspector, who may add comments and then send it to the Manager, Standards Office, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Doug Rudolph, Aerospace Engineer, FAA, Small Airplane Directorate, 901 Locust, Room 301, Kansas City, Missouri 64106; telephone: (816) 329-4059; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? The replacements required by this AD must be done in accordance with Moravan Mandatory Service Bulletin Z 242L/27a—Rev. 1, dated October 31, 2000. The Director of the Federal Register approved this incorporation by reference under 5 U.S.C. 552(a) and 1 CFR part 51. You may get copies from Moravan, Inc., 765 81 Otrokovice, Czech Republic; telephone: +420 67 767 3940; facsimile: +420 67 792 2103. You may view copies at the FAA, Central Region, Office of the Regional Counsel, 901 Locust, Room 506, Kansas City, Missouri, or at the Office of the Federal Register, 800 North Capitol Street, NW, suite 700, Washington, DC.

Note 2: The subject of this AD is addressed in Czech Republic AD Number CAA-AD-T-099/2000R1, dated June 28, 2001.

(i) When does this amendment become effective? This amendment becomes effective on March 21, 2003.

Issued in Kansas City, Missouri, on January 21, 2003.
Michael Gallagher,
Manager, Small Airplane Directorate, Aircraft Certification Service.

[FR Doc. 03-1956 Filed 1-30-03; 8:45 am]

BILLING CODE 4910-13-P